ENVIRONMENTAL PROTECTION AGENCY

[EPA-HQ-OW-2016-0439; FRL-9967-70-OW]

Request for Public Comments To Be Sent to Versar, Inc., on an Interim List of Perchlorate in Drinking Water Expert Peer Reviewers and Draft Peer Review Charge Questions

AGENCY: Environmental Protection Agency (EPA).

ACTION: Notice of request for public comment.

SUMMARY: The U.S. Environmental Protection Agency (EPA) is announcing a request for public comment on an interim list of peer review candidates and materials that relate to the expert peer review to support EPA's Safe Drinking Water Act decision making for perchlorate. This request is one of two Federal Register notices being published concurrently, seeking public comment on two separate sets of materials. This notice requests comments to be sent to EPA's contractor, Versar, Inc., on the interim list of peer review candidates and the draft charge questions. Versar, Inc., will consider the comments received on this notice in selecting the final peer review panel, which will collectively provide appropriate expertise spanning the subject matter areas covered by the draft report and, to the extent feasible, best provide a balance of perspectives. EPA will consider comments received on this notice to help inform the final peer review panel's charge. The companion notice requests comments (to be sent to EPA) on a draft report entitled “Draft Report: Proposed Approaches to Inform the Derivation of a Maximum Contaminant Level Goal for Perchlorate in Drinking Water” (draft MCLG Approaches Report).

DATES: Comments must be received on or before October 6, 2017.

ADDRESSES: Submit your comments to Versar, Inc., no later than October 6, 2017 by one of the following methods:

• Email: perchlorate@versar.com (subject line: Perchlorate Peer Review)

• Mail: Versar, Inc., 6850 Versar Center, Springfield, VA 22151 (ATTN: Tracey Cowen).

Please be advised that public comments are subject to release under the Freedom of Information Act.

FOR FURTHER INFORMATION CONTACT: Questions concerning the interim list of expert peer review candidates and draft peer review charge questions should be directed to Versar, Inc., at 6850 Versar Center, Springfield, VA 22151; by email perchlorate@versar.com (subject line: Perchlorate Peer Review); or by phone: (301) 304-3121 (ask for Tracey Cowen).

SUPPLEMENTARY INFORMATION:

I. Process of Obtaining Candidate Reviewers

EPA announced a public nomination period from March 1, 2016, to March 31, 2016, in the Federal Register (81 FR 10617; March 1, 2016), during which members of the public were able to nominate scientific experts with knowledge and experience in one or more of the following areas: (1) Physiologically-based pharmacokinetic (PBPK), physiologically-based pharmacokinetic/pharmacodynamic (PBPK/PD) and/or biologically based dose-response (BBDR) modeling, (2) fetal and neonatal thyroid endocrinology (clinical and experimental), (3) iodide homeostasis, and (4) perchlorate toxicology and mode of action or adverse outcome pathway. On June 3, 2016, in the Federal Register (81 FR 35760), EPA invited the public to also nominate scientific experts with knowledge and experience in one or more of the following areas of human health risk assessment: (1) An understanding of thyroid function (preferably in the sensitive life stages of interest), (2) the importance of maternal thyroid hormone homeostasis in each stage of gestation, (3) hypothyroxinemia, (4) neurodevelopmental assessment indices for young children including the Bayley's Scale, (5) the toxicity of perchlorate, (6) epidemiological assessment techniques, and (7) statistics.

Versar, Inc., considered the nominated peer review candidates and also conducted an independent search for scientific experts to augment the list of publically-nominated candidates.

Selection Process: Versar, Inc., considered and screened all candidates against the selection criteria described in the March 1, 2016, and June 3, 2016, Federal Register notices (81 FR 10617 and 81 FR 35760, respectively), which included the candidates being free of any conflict of interest and being available to participate in-person in a two-day, public, peer review meeting in the Washington, DC, area. Versar, Inc., narrowed the list of potential reviewers for the second panel to 12 candidates. EPA is now soliciting comments on the interim list of 12 candidates.

EPA requests that the public provide relevant information or documentation on the experts that the contractor should consider in evaluating these candidates. Once the public comments on the interim list of candidates have been reviewed and considered, the contractor will select the final list of peer reviewers.

Responsibilities of Peer Reviewers: Peer reviewers will be charged with evaluating and preparing written comments on EPA's draft MCLG Approaches Report. Versar, Inc., will provide reviewers with a summary and compilation of public comments on the draft MCLG Approaches Report submitted to EPA's docket (ID number EPA-HQ-OW-2016-0438) during the 45-day public comment period, for their consideration. Reviewers will participate in a two-day meeting expected to be held in the Washington, DC, metro area, projected to occur in late fall of 2017 (exact date to be determined), to discuss the scientific basis supporting these materials. Following the meeting, Versar, Inc., will provide a report to EPA, summarizing the peer reviewers' evaluation of the scientific and technical merit of the draft MCLG Approaches Report and the peer reviewers' full responses to the charge questions. EPA will make the final peer review report available to the public (exact date to be determined). In preparing the final MCLG Approaches Report, EPA will consider the peer review report as well as the written public comments submitted to the docket.

II. Interim List of Peer Reviewers

Versar, Inc., is considering the following candidates for the peer review panel. Biosketches are available through the EPA docket at http://www.regulations.gov (Docket ID No. EPA-HQ-OW-2016-0439). After review and consideration of public comments and consultation with EPA's Scientific Integrity Official, Versar, Inc., will select from this list, the final list of peer reviewers, who will, collectively, best provide expertise spanning the previously mentioned areas of knowledge and experience and, to the extent feasible, best provide a balance of perspectives. EPA will announce the peer review panel meeting date, location and registration details, along with the final list of peer reviewers selected by Versar, Inc., at least 30 days prior to the meeting.

Name of Nominee, Degree, Place of Employment

1. Hugh A. Barton, Ph.D., Pfizer, Inc.

2. Nancy Carrasco, M.D., Yale School of Medicine

3. Jonathan Chevrier, Ph.D., McGill University Faculty of Medicine

4. Claude Emond, Ph.D., University of Montreal

5. Dale Hattis, Ph.D., George Perkins Marsh Institute, Clark University

6. Judy S. LaKind, Ph.D., LaKind Associates, LLC

7. Angela M. Leung, M.D., M.Sc., UCLA David Geffen School of Medicine

8. Paul H. Lipkin, M.D., Johns Hopkins University School of Medicine

9. Elizabeth N. Pearce, M.D., M.Sc., Boston Medical Center/Boston University School of Medicine

10. Stephen M. Roberts, Ph.D., University of Florida

11. Joanne F. Rovet, Ph.D., The Hospital for Sick Children (Toronto)

12. Craig Steinmaus, M.D., M.P.H., University of California, Berkeley

III. Draft Peer Review Charge Questions

The draft peer review charge questions are available through the EPA docket at http://www.regulations.gov (Docket ID No. EPA-HQ-OW-2016-0439).

Dated: September 6, 2017.
Michael H. Shapiro,
Acting Assistant Administrator, Office of Water.

[FR Doc. 2017-19702 Filed 9-14-17; 8:45 am]

BILLING CODE 6560-50-P